DEPARTMENT OF COMMERCE

National Oceanic and Atmospheric Administration

50 CFR Part 300

[Docket No. 020801186-3073-02; I.D. 053102D]

RIN 0648-AQ09

Pacific Halibut Fisheries; Subsistence Fishing

Correction

In rule document 03-8822 beginning on page 18145, in the issue of Tuesday, April 15, 2003 make the following correction:

The following material is being reprinted due to numerous errors following amendatory instruction 5.

Subpart E— [Corrected]

5. Figure 1 to subpart E is revised; Figure 2 through 5 to subpart E are added to read as follows:

PART 600—MAGNUSON-STEVENS ACT PROVISIONS

1. The authority citation for part 600 is amended to read as follows:

Authority: 5 U.S.C 561, 16 U.S.C. 773 et seq., and 16 U.S.C. 1801 et seq.

2. In § 600.725, table VII in paragraph (v) is revised to read as follows:

§ 600.725 General Prohibitions.

* * * * *

(v) * * *

VII. North Pacific Fishery Management Council
Fishery | Allowable gear types
1. Alaska Scallop Fishery (FMP) | Dredge.
2. Bering Sea (BS) and Aleutian Islands (AI) King and Tanner Crab Fishery (FMP): |
Pot fishery | Pot.
3. BS and AI King and Tanner Crab Fishery (Non-FMP): |
Recreational fishery | Pot.
4. BS and AI Groundfish Fishery (FMP): |
A. Groundfish trawl fishery | A. Trawl.
B. Bottomfish hook-and-line, and handline fishery | B. Hook and line, handline.
C. Longline fishery | C. Longline.
D. BS and AI pot and trap fishery | D. Pot, trap.
5. BS and AI Groundfish Recreational Fishery (Non-FMP). | Handline, rod and reel, hook and line, pot, trap.
6. Gulf of Alaska (GOA) Groundfish Fishery (FMP): |
A. Groundfish trawl fishery | A. Trawl.
B. Bottomfish hook-and-line and handline fishery | B. Hook and line, handline.
C. Longline fishery | C. Longline.
D. GOA pot and trap fishery | D. Pot, trap.
E. Recreational fishery | E. Handline, rod and reel, hook and line, pot, trap.
7. Pacific Halibut Fishery (Non-FMP): |
A. Commercial (IFQ and CDQ) | A. Hook and line.
B. Recreational | B. Single line with no more than 2 hooks attached or spear.
C. Subsistence | C. Setline gear and hand held gear of not more than 30 hooks, including longline, handline, rod and reel, spear, jig, and hand-troll gear.
8. Alaska High Seas Salmon Hook and Line Fishery: |
(FMP) | Hook and line.
9. Alaska Salmon Fishery (Non-FMP): |
A. Hook-and-line fishery | A. Hook and line.
B. Gillnet fishery | B. Gillnet.
C. Purse seine fishery. | C. Purse seine.
D. Recreational fishery | D. Handline, rod and reel, hook and line.
10. Finfish Purse Seine Fishery (Non-FMP). | Purse seine.
11. Octopus/Squid Longline Fishery (Non-FMP). | Longline.
12. Finfish Handline and Hook-and-line Fishery (Non-FMP) | Handline, hook and line.
13. Recreational Fishery (Non-FMP) | Handline, rod and reel, hook line.
14. Commercial Fishery (Non-FMP) | Trawl, gillnet, hook and line, longline, handline, rod and reel, bandit gear, cast net, spear.

* * * * *

PART 679— FISHERIES OF THE EXCLUSIVE ECONOMIC ZONE OFF ALASKA

1. The authority citation for part 679 continues to read as follows:

Authority: 16 U.S.C. 773 et seq.; 1801 et seq.; and 3631 et seq.; Title II of Division C, Pub. L. 105-277; Sec. 3027, Pub. L. 106-31; 113 Stat. 57; 16 U.S.C. 1540(f); and Sec. 209 Pub. L. 106-554.

2. In § 679.2, the definitions for “commercial fishing” and “IFQ halibut” are revised as follows:

§ 679.2 Definitions.

* * * * *

Commercial fishing means:

(1) For purposes of the High Seas Salmon Fishery, fishing for fish for sale or barter; and

(2) For purposes of the Pacific halibut fishery, fishing, the resulting catch of which either is, or is intended to be, sold or bartered but does not include subsistence fishing for halibut, as defined at 50 CFR 300.61.

* * * * *

IFQ halibut means any halibut that is harvested with setline or other hook and line gear while commercial fishing in any IFQ regulatory area defined in this section.

* * * * *

[FR Doc. C3-8822 Filed 4-30-03; 8:45 am]

BILLING CODE 1505-01-D